DEPARTMENT OF HOUSING AND URBAN DEVELOPMENT

[Docket No. FR-5415-N-16]

Notice of Availability: Notice of Funding Availability (NOFA) for HUD's Fiscal Year (FY) 2010 Asthma Interventions in Public and Assisted Multifamily Housing

AGENCY: Office of the Chief of the Human Capital Officer, HUD.

ACTION: Notice.

SUMMARY: HUD announces the availability on its website of the applicant information, submission deadlines, funding criteria, and other requirements for the FY2010 Asthma Interventions in Public and Assisted Multifamily Housing Grant Program. Approximately $2.6 million is made available through this NOFA, by the Consolidated Appropriations Act, 2010 (Pub. L. 111-117, approved December 16, 2009). The purpose of this program is to fund demonstration projects to improve asthma control among children and others currently residing in federally assisted multifamily housing developments that are administered by local public housing authorities (i.e., public housing) as well as privately owned multifamily housing that is subsidized by HUD (e.g. project-based section 8, section 202, and section 811 housing).

The notice providing information regarding the application process, funding criteria and eligibility requirements can be found using the Department of Housing and Urban Development agency link on the Grants.gov/Find Web site at http://www.grants.gov/search/agency.do. A link to Grants.gov is also available on the HUD Web site at http://www.hud.gov/offices/adm/grants/fundsavail.cfm. The Catalogue of Federal Domestic Assistance (CFDA) number for Asthma Interventions in Public and Assisted Multifamily Housing Grant Program is 14.914. Applications must be submitted electronically through Grants.gov.

FOR FURTHER INFORMATION CONTACT: For information concerning the FY2010 Asthma Interventions in Public and Assisted Multifamily Housing Grant Program you may contact Dr. J. Kofi Berko, Jr., Office of Healthy Homes and Lead Hazard Control, Department of Housing and Urban Development; 451 Seventh Street, SW., Room 8236, Washington, DC 20410-3000; at 202-402-7696 (this is not a toll-free number) or via e-mail at j.Kofi.Berko@HUD.gov. Persons with speech or hearing impairments may access this telephone number via TTY by calling the toll-free Federal Relay Service during working hours at 800-877-8339.

Dated: September 27, 2010.
Barbara S. Dorf,
Director, Office of Departmental Grants Management and Oversight, Office of the Chief of the Human Capital Officer.

[FR Doc. 2010-24751 Filed 10-1-10; 8:45 am]

BILLING CODE 4210-67-P